DEPARTMENT OF ENERGY

Federal Energy Regulatory Commission

[Docket No. EC01-134-000]

Lakefield Junction, L.P. and Great River Energy; Notice of Filing

August 7, 2001.

Take notice that on July 27, 2001, Lakefield Junction, L.P. (Lakefield) and Great River Energy (GRE) filed an application pursuant to section 203 of the Federal Power Act for authorization of a disposition of jurisdictional facilities whereby Lakefield will transfer its jurisdictional assets to GRE. The transfer involves Lakefield's transfer to GRE of substantially all of Lakefield's assets and liabilities, including its 550-MW generating facility located in Minnesota.

Any person desiring to be heard or to protest such filing should file a motion to intervene or protest with the Federal Energy Regulatory Commission, 888 First Street, NE., Washington, DC 20426, in accordance with Rules 211 and 214 of the Commission's rules of practice and procedure (18 CFR 385.211 and 385.214). All such motions and protests should be filed on or before August 17, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20178 Filed 8-10-01; 8:45 am]

BILLING CODE 6717-01-P